DEPARTMENT OF HEALTH AND HUMAN SERVICES

Health Resources and Services Administration

Advisory Committee on Training in Primary Care Medicine and Dentistry; Notice of Meeting

In accordance with section 10(a)(2) of the Federal Advisory Committee Act (Pub. L. 92-463), notice is hereby given of the following meeting:

Name: Advisory Committee on Training in Primary Care Medicine and Dentistry (ACTPCMD).

Date and Time: September 15, 2008, 10 a.m.-1 p.m. Eastern Standard Time (EST).

Place: (Audio Conference Call).

Status: The meeting will be open to the public; audio conference access limited only by availability of telephone ports.

Purpose: The Advisory Committee provides advice and recommendations on a broad range of issues dealing with programs and activities authorized under section 747 of the Public Health Service Act as amended by The Health Professions Education Partnership Act of 1998, Public Law 105-392. At this meeting the Advisory Committee will finalize its seventh report on the topic of primary care providing a medical/dental home within the health care system. It will begin work on its eighth report on the topic of the redesign of primary care and its impact on training and Title VII, section 747. Reports are submitted to Congress and to the Secretary of the Department of Health and Human Services.

Agenda: The agenda includes final approval of the recommendations and finalization of the seventh report as a whole. The Advisory Committee will plan the process for completion of the eighth report on the redesign of primary care training. An opportunity will be provided for public comment. Agenda items are subject to change as dictated by the priorities of the Advisory Committee.

Supplementary Information: The ACTPCMD will convene on Monday, September 15 from 10 a.m. to 1 p.m. EST via audio conference. To participate in this audio conference call, please dial the toll-free number 1-800-475-0478 and provide the numeric passcode: 2219205. Anyone interested in participating in the audio conference should notify either Jerilyn K. Glass, M.D., Ph.D., or Anne F. Patterson by calling 301-443-6822 prior to September 8.

For Further Information Contact: Anyone requesting information regarding the Advisory Committee should contact Jerilyn K. Glass, Designated Federal Official for the ACTPCMD, Bureau of Health Professions, Health Resources and Services Administration, Room 9A-27, Parklawn Building, 5600 Fishers Lane, Rockville, Maryland 20857, Telephone (301) 443-6822. The Web address for information on the Advisory Committee is http://bhpr.hrsa.gov/medicine-dentistry/actpcmd.

Dated: August 7, 2008.
Alexandra Huttinger,
Director, Division of Policy Review and Coordination.

[FR Doc. E8-18631 Filed 8-11-08; 8:45 am]

BILLING CODE 4165-15-P